DEPARTMENT OF COMMERCE

Foreign-Trade Zones Board

[S-002-2020]

Foreign-Trade Zone 44—Mt. Olive, New Jersey; Application for Subzone; Fisher Footwear, LLC; Cranbury, New Jersey

An application has been submitted to the Foreign-Trade Zones Board (the Board) by the State of New Jersey Department of State, grantee of FTZ 44, requesting subzone status for the facility of Fisher Footwear, LLC, located in Cranbury, New Jersey. The application was submitted pursuant to the provisions of the Foreign-Trade Zones Act, as amended (19 U.S.C. 81a-81u), and the regulations of the Board (15 CFR part 400). It was formally docketed on January 7, 2020.

The proposed subzone (22 acres) is located at 1248 South River Road, Cranbury, New Jersey. No authorization for production activity has been requested at this time. The proposed subzone would be subject to the existing activation limit of FTZ 44.

In accordance with the Board's regulations, Christopher Kemp of the FTZ Staff is designated examiner to review the application and make recommendations to the Executive Secretary.

Public comment is invited from interested parties. Submissions shall be addressed to the Board's Executive Secretary and sent to: ftz@trade.gov. The closing period for their receipt is February 24, 2020. Rebuttal comments in response to material submitted during the foregoing period may be submitted during the subsequent 15-day period to March 9, 2020.

A copy of the application will be available for public inspection in the “Reading Room” section of the Board's website, which is accessible via www.trade.gov/ftz.

For further information, contact Christopher Kemp at Christopher.Kemp@trade.gov or (202) 482-0862.

Dated: January 7, 2020.
Andrew McGilvray,
Executive Secretary.

[FR Doc. 2020-00381 Filed 1-13-20; 8:45 am]

BILLING CODE 3510-DS-P